DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps (NHSC)

Date and Time: July 18, 2013—2:00pm-3:30pm ET

Place: The meeting will be via audio conference call.

Status: The meeting will be open to the public.

Agenda: The Council is holding a meeting via conference call to discuss the Affordable Care Act, NHSC retention resources, and partnerships. The public can join the meeting via audio conference call on the date and time specified above using the following information: Dial-in number: 1-800-857-5081; Passcode: 1060359. There will be an opportunity for the public to comment towards the end of the call.

FOR FURTHER INFORMATION CONTACT: Njeri Jones, Bureau of Clinician Recruitment and Service, Health Resources and Services Administration, Parklawn Building, Room 13-64, 5600 Fishers Lane, Rockville, MD 20857; email: NJones@hrsa.gov; telephone: 301-443-2541.

Dated: June 25, 2013.
Bahar Niakan,
Director, Division of Policy and Information Coordination.

[FR Doc. 2013-15713 Filed 7-1-13; 8:45 am]

BILLING CODE 4165-15-P